DEPARTMENT OF COMMERCE

International Trade Administration

[A-423-811]

Notice of Preliminary Determination of Sales at Less Than Fair Value and Postponement of Final Determination: Certain Cold-Rolled Carbon Steel Flat Products From Belgium

AGENCY: Import Administration, International Trade Administration, Department of Commerce.

ACTION: Notice of preliminary determination of Sales at Less Than Fair Value.

SUMMARY: We preliminarily determine that certain cold-rolled carbon steel flat products (“cold-rolled steel”) from Belgium are being, or are likely to be, sold in the United States at less than fair value (“LTFV”), as provided in section 733(b) of the Tariff Act of 1930, as amended.

Interested parties are invited to comment on this preliminary determination. Since we are postponing the final determination, we will make our final determination not later than 135 days after the date of publication of this preliminary determination in the Federal Register.

EFFECTIVE DATE: May 9, 2002.

FOR FURTHER INFORMATION CONTACT: Lyman Armstrong or Cindy Lai Robinson, Import Administration, International Trade Administration, U.S. Department of Commerce, 14th Street and Constitution Avenue, NW., Washington, DC 20230; telephone: (202) 482-3601 or (202) 482-3797, respectively.

The Applicable Statute and Regulations

Unless otherwise indicated, all citations to the Tariff Act of 1930, as amended (“the Act”), are references to the provisions effective January 1, 1995, the effective date of the amendments made to the Act by the Uruguay Round Agreements Act. In addition, unless otherwise indicated, all citations to the Department of Commerce (“Department's”) regulations are to 19 CFR part 351 (April 2001).

SUPPLEMENTARY INFORMATION:

Case History

This investigation was initiated on October 18, 2001.¹ See Notice of Initiation of Antidumping Duty Investigations: Certain Cold-Rolled Carbon Steel Flat Products From Argentina, Australia, Belgium, Brazil, France, Germany, India, Japan, Korea, the Netherlands, New Zealand, the People's Republic of China, the Russian Federation, South Africa, Spain, Sweden, Taiwan, Thailand, Turkey, and Venezuela, 66 FR 54198 (October 26, 2001) (Initiation Notice). Since the initiation of the investigation, the following events have occurred.

¹ The petitioners in this investigation are Bethlehem Steel Corporation, LTV Steel Company Inc., National Steel Corporation, Nucor Corporation, Steel Dynamics, Inc., United States Steel Corporation, WCI Steel, Inc., and Weirton Steel Corporation (collectively, the petitioners).

On October 31, 2001, we solicited comments from interested parties regarding the criteria to be used for model-matching purposes, and we received comments on our proposed matching criteria on November 8, 2001. On November 8, 2001, we received model match comments from petitioners and respondents. On November 26, 2001, we informed respondents of our revised model match criteria.

On November 13, 2001, the United States International Trade Commission (“ITC”) preliminarily determined that there is a reasonable indication that an industry in the United States is materially injured or threatened with material injury by reason of imports from Argentina, Australia, Belgium, Brazil, China, France, Germany, India, Japan, Korea, the Netherlands, New Zealand, Russia, South Africa, Spain, Sweden, Taiwan, Thailand, Turkey, and Venezuela of cold-rolled steel products. See Certain Cold-Rolled Steel Products From Argentina, Australia, Belgium, Brazil, China, France, Germany, India, Japan, Korea, the Netherlands, New Zealand, Russia, South Africa, Spain, Sweden, Taiwan, Thailand, Turkey, and Venezuela, 66 FR 57985 (November 19, 2001).

On November 16, 2001, the Department issued an antidumping questionnaire to Sidmar, N.V.² The petitioners made an allegation of sales below cost of production (“COP”) in the petition. Based on the factual information contained in the petition, we found “reasonable grounds to believe or suspect” that sales below cost occurred. See Initiation Notice 66 FR at 54212-13. Accordingly, the Department initiated the requested country-wide cost investigation.

² Section A of the questionnaire requests general information concerning a company's corporate structure and business practices, the merchandise under investigation that it sells, and the manner in which it sells that merchandise in all of its markets. Section B requests a complete listing of all home market sales, or, if the home market is not viable, of sales in the most appropriate third-country market (this section is not applicable to respondents in non-market economy (NME) cases). Section C requests a complete listing of U.S. sales. Section D requests information about the cost of production of merchandise sold in the foreign market and the constructed value of merchandise sold in or to the United States. Section E requests information about further manufacturing or assembly in the United States prior to delivery to unaffiliated United States customers.

On November 29, 2001, we confirmed our selection of Sidmar, the largest producer/exporter of cold-rolled steel from Belgium, as the sole mandatory respondent in this proceeding. See Memorandum from Mark Young to Melissa Skinner, “Antidumping Duty Investigation of Cold-Rolled Carbon Steel Flat Products from Belgium—Selection of Respondents,” dated November 29, 2001, on file in the Central Records Unit, room B-099, of the Department's main building (the “CRU”).

During the period December 2001 through January 2002, the Department received questionnaire responses from Sidmar and its affiliated U.S. importer, TradeARBED, Inc. (“TANY”) (collectively “Sidmar”). The Department issued supplemental questionnaires on February 20 and 28, 2002, and the responses were received on March 20 and 29, 2002.

On January 23, 2002, Sidmar requested that the Department permit it to exclude sales of full-hard coils which were further annealed and skinpassed by its affiliated mill, Laminoir de Dudelange (“LDD”), and then imported by its affiliated U.S. processor, J&F Steel Corp. (“J&F”). Petitioners Bethlehem Steel Corporation, National Steel Corp., Nucor Corp., and United States Steel Corporation submitted their comments to oppose the exclusion of sales on February 1, 2002. Petitioners provided additional pre-preliminary comments on April 5, 2002. For further discussion, see the Calculation Memorandum from Lyman Armstrong to the File for the Preliminary Determination of Certain Cold-Rolled Carbon Steel Flat Products from Belgium, dated April 26, 2002 (“Sales Calculation Memorandum”).

On February 7, 2002, pursuant to 19 CFR 351.205(e), the petitioners made a timely request to postpone the preliminary determination. We granted this request on February 22, 2002, and postponed the preliminary determination until no later than April 26, 2002. (See Postponement of Preliminary Determinations of Antidumping Duty Investigations: Certain Cold-Rolled Carbon Steel Flat Products from Argentina (A-357-816), Australia (A-602-804), Belgium (A-423-811), Brazil (A-351-834), the People's Republic of China (A-570-872), France (A-427-822), Germany (A-428-834), India (A-533-826), Japan (A-588-859), Korea (A-580-848), the Netherlands (A-421-810), New Zealand (A-614-803), Russia (A-821-815), South Africa (A-791-814), Spain (A-469-812), Sweden (A-401-807), Taiwan (A-583-839), Thailand (A-549-819), Turkey (A-489-810) and Venezuela (A-307-822), 66 FR at 8227 (February 22, 2002)).

On April 16, 2002, the Department issued supplemental Sections D and E questionnaires. The responses were received on April 22, 2002.

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise. Section 351.210(e)(2) of the Department's regulations requires that exporters requesting postponement of the final determination must also request an extension of the provisional measures referred to in section 733(d) of the Act from a four-month period until not more than six months. We received a request to postpone the final determination from the respondent, Sidmar, on April 25, 2002. In its request, Sidmar consented to the extension of provisional measures to no longer than six months.

Since this preliminary determination is affirmative, the request for postponement is made by an exporter than accounts for a significant proportion of exports of the subject merchandise, and there is no compelling reason to deny the respondent's request, we have extended the deadline for issuance of the final determination until the 135th day after the date of publication of this preliminary determination in the Federal Register and have extended provisional measures to no longer than six months.

Scope of Investigation

For purposes of this investigation, the products covered are certain cold-rolled (cold-reduced) flat-rolled carbon-quality steel products. For a full description of the scope of this investigation, as well as a complete discussion of all scope exclusion requests submitted in the context of the on-going cold-rolled steel investigations, please see the “Scope Appendix” attached to the Notice of Preliminary Determination of Sales at Less Than Fair Value: Certain Cold-Rolled Carbon Steel Flat Products from Argentina, published concurrently with this preliminary determination.

Period of Investigation

The period of investigation (“POI”) is July 1, 2000, through June 30, 2001.

Fair Value Comparisons

To determine whether sales of cold-rolled steel from Belgium to the United States were made at LTFV, we compared the constructed export price (“CEP”) to the normal value (“NV”), as described in the “Constructed Export Price” and “Normal Value” sections of this notice, below. In accordance with section 777A(d)(1)(A)(i) of the Act, we compared POI weighted-average CEPs to weighted-average NVs.

Product Comparisons

In accordance with section 771(16) of the Act, we considered all products produced and sold by the respondent in the home market during the POI that fit the description in the “Scope of Investigation” section of this notice to be foreign like products for purposes of determining appropriate product comparisons to U.S. sales. We compared U.S. sales to sales made in the home market, where appropriate. Where there were no sales of identical merchandise in the home market made in the ordinary course of trade to compare to U.S. sales, we compared U.S. sales to sales of the most similar foreign like product made in the ordinary course of trade. In making the product comparisons, we matched foreign like products based on the physical characteristics reported by the respondents in the following order of importance: hardening and tempering; painted; carbon level; quality; yield strength; minimum thickness; thickness tolerance; width; edge finish; form; temper rolling; leveling; annealing; and surface finish.

Constructed Export Price

For the price to the United States, we used CEP in accordance with section 772(b) of the Act because all sales to the first unaffiliated purchaser took place in the United States. Specifically, all of Sidmar's sales to the United States during the POI were made by its U.S. affiliates, TANY and J&F. Furthermore, some of Sidmar's CEP sales were further manufactured by J&F in the United States. For these sales we used the price to the first unaffiliated customer and deducted the costs of further manufacturing, in accordance with section 772(d)(2) of the Act. To calculate further manufacturing costs, we used the information in Sidmar's Sections C and E responses, except in the following instances where the data were not properly quantified or valued: (1) we increased the reported further manufacturing costs to include freight from the port to the processor when determining profit and cost to be deducted from CEP. See Memorandum from Peter Scholl to Neal Halper, Director, Office of Accounting, dated April 26, 2002, “Cost of Production and Constructed Value (CV) Calculation Adjustments for the Preliminary Determination” (“Cost Calculation Memorandum”).

We based CEP on the packed CIF or delivered prices to the first unaffiliated customer in the United States. Where appropriate, we reduced these prices to reflect discounts and rebates, and made billing adjustments.

In accordance with section 772(c)(2) of the Act, we made deductions, where appropriate, for movement expenses including foreign inland freight, foreign brokerage and handling, ocean freight, marine insurance, U.S. brokerage and handling, U.S. customs duties (including harbor maintenance fees and merchandise processing fees), and U.S. inland freight expenses (freight from warehouse to the customer and freight from port to warehouse).

In accordance with section 772(d)(1) of the Act, we deducted from the starting price those selling expenses that were incurred in selling the subject merchandise in the United States, including direct selling expenses (cost of credit, warranties, and commissions paid to unaffiliated sales agents). In addition, we deducted indirect selling expenses that related to economic activity in the United States such as inventory carrying costs and other indirect selling expenses, incurred by affiliated U.S. distributors. We also deducted from CEP an amount for profit in accordance with sections 772(d)(3) and (f) of the Act. For further discussion, see the Sales Calculation Memorandum.

We have excluded Sidmar sales of full-hard coils which were further annealed and skinpassed by its affiliated mill, LDD, in Luxembourg and then imported by its affiliated U.S. processor, J&F. Sidmar stated that it and J&F were unable to determine the appropriate product matching characteristics for sales of material processed by LDD because LDD does not have the same order management system used by Sidmar. With the plant order number, Sidmar determined the appropriate product matching characteristics for the imported coil based on mill production records. Because LDD does not have the same order management system, it is unable to link its production records to J&F invoices. Moreover, LDD does not have a reliable method for linking its own sales of further manufactured products to specific coils purchased from SIDMAR. Therefore, because these sales accounted for such a small portion of U.S. sales we excused Sidmar from reporting them. For further discussion, see the Sales Calculation Memorandum.

For those U.S. sales for which Sidmar did not report a date of payment, we have used the signature date of the preliminary determination (i.e., April 26, 2002) in the calculation of imputed credit expenses. In addition, for the sales for which Sidmar did not report a date of shipment, we have used the invoice date for purposes of calculating credit expenses. For further discussion, see the Sales Calculation Memorandum.

Normal Value

A. Home Market Viability

In order to determine whether there is a sufficient volume of sales in the home market to serve as a viable basis for calculating NV (i.e., the aggregate volume of home market sales of the foreign like product is equal to or greater than five percent of the aggregate volume of U.S. sales), we compared the respondent's volume of home market sales of the foreign like product to the volume of U.S. sales of the subject merchandise, in accordance with section 773(a)(1)(B) of the Act. Because the respondent's aggregate volume of home market sales of the foreign like product was greater than five percent of its aggregate volume of U.S. sales for the subject merchandise, we determined that the home market was viable for the respondent.

B. Arm's Length Test

Sales to affiliated customers for consumption in the home market which were determined not to be at arm's length were excluded from our analysis. To test whether these sales were made at arm's length, we compared the prices of sales of comparison products to affiliated and unaffiliated customers, net of all movement charges, direct selling expenses, discounts, and packing. Pursuant to 19 CFR 351.403(c) and in accordance with our practice, where the prices to the affiliated party were on average less than 99.5 percent of the prices to unaffiliated parties, we determined that the sales made to the affiliated party were not at arm's length. See e.g., Notice of Final Results and Partial Rescission of Antidumping Duty Administrative Review: Roller Chain, Other Than Bicycle, From Japan, 62 FR at 60472, 60478 (November 10, 1997), and Antidumping Duties; Countervailing Duties: Final Rule (“Antidumping Duties”), 62 FR at 27295, 27355-56 (May 19, 1997). We included in our NV calculations those sales to affiliated customers that passed the arm's length test in our analysis. See 19 CFR 351.403; Antidumping Duties, 62 FR at 27355-56.

C. Cost of Production Analysis

Based on our analysis of an allegation contained in the petition, we found that there were reasonable grounds to believe or suspect that sales of cold-rolled steel in the home market were made at prices below their COP. Accordingly, pursuant to section 773(b) of the Act, we initiated a country-wide sales-below-cost investigation to determine whether sales were made at prices below their respective COPs (see Initiation Notice, 66 FR at 54198).

2. Calculation of COP

In accordance with section 773(b)(3) of the Act, we calculated COP based on the sum of the cost of materials and fabrication for the foreign like product, plus an amount for general and administrative expenses (“G&A”), including interest expenses, and home market packing costs (see “Test of Home Market Sales Prices” section below for treatment of home market selling expenses). We relied on the COP information submitted by Sidmar with the exception of certain production inputs which were obtained from affiliated parties at less than market value. For these inputs, we adjusted the reported cost to reflect market value. See the Cost Calculation Memorandum.

2. Test of Home Market Sales Prices

On a product-specific basis, we compared the adjusted weighted-average COP to the home market sales of the foreign like product, as required under section 773(b) of the Act, in order to determine whether the sale prices were below the COP. The prices were exclusive of any applicable movement charges, rebates, discounts, and direct and indirect selling expenses. In determining whether to disregard home market sales made at prices less than their COP, we examined, in accordance with sections 773(b)(1)(A) and (B) of the Act, whether such sales were made (1) within an extended period of time in substantial quantities, and (2) at prices which permitted the recovery of all costs within a reasonable period of time.

3. Results of the COP Test

Pursuant to section 773(b)(2)(C), where less than 20 percent of the respondent's sales of a given product are at prices less than the COP, we do not disregard any below-cost sales of that product, because we determine that in such instances the below-cost sales were not made in “substantial quantities.” Where 20 percent or more of a respondent's sales of a given product during the POI are at prices less than the COP, we determine that in such instances the below-cost sales represent “substantial quantities” within an extended period of time, in accordance with section 773(b)(1)(A) of the Act. In such cases, we also determine whether such sales were made at prices which would not permit recovery of all costs within a reasonable period of time, in accordance with section 773(b)(1)(B) of the Act.

We found that, for certain specific products, more than 20 percent of Sidmar's home market sales were at prices less than the COP and, in addition, such sales did not provide for the recovery of costs within a reasonable period of time. We therefore excluded these sales and used the remaining sales, if any, as the basis for determining NV, in accordance with section 773(b)(1) of the Act.

D. Calculation of Normal Value Based on Comparison Market Prices

We calculated NV based on delivered prices to unaffiliated customers or prices to affiliated customers that we determined to be at arm's length. We made deductions, where appropriate, from the starting price for early payment discounts, billing adjustments, and rebates. We also made deductions for movement expenses, including inland freight (plant to distribution warehouse, plant/warehouse to customer, and affiliated reseller to customer), inland insurance, and warehousing under section 773(a)(6)(B)(ii) of the Act. We made circumstance of sale (“COS”) adjustments, in accordance with section 773(a)(6)(C)(iii) of the Act, for direct selling expenses, including warranty expenses, credit expenses, and other direct selling expenses. See the Sales Calculation Memorandum.

Furthermore, we made adjustments for differences in costs attributable to differences in the physical characteristics of the merchandise in accordance with section 773(a)(6)(C)(ii) of the Act and 19 CFR 351.411. We also deducted home market packing costs and added U.S. packing costs in accordance with sections 773(a)(6)(A) and (B) of the Act. Finally, for comparisons to CEP sales, we made a CEP offset pursuant to section 773(a)(7)(B) of the Act and 19 CFR 351.412(f). See Level of Trade section below. We calculated the CEP offset as the lesser of the indirect selling expenses on the comparison-market sales or the indirect selling expenses deducted from the starting price in calculating CEP. See the Sales Calculation Memorandum.

We have excluded Sidmar's sales of non-prime merchandise in the home market for which Sidmar was unable to identify their product characteristics. These sales represented a small portion of Sidmar's home market sales. For further discussion, see the Sales Calculation Memorandum.

E. Normal Value Based on CV

Section 773(a)(4) of the Act provides that where NV cannot be based on comparison market sales, NV may be based on CV. Accordingly, for those models of cold-rolled steel products for which we could not determine the NV based on comparison market sales, either because there were no sales of a comparable product or all sales of the comparable product failed the COP test, we based NV on CV. Section 773(e)(1) of the Act provides that the CV shall be based on the sum of the cost of material and fabrication for the imported merchandise, plus amounts for selling, general and administrative (“SG&A”) expenses, profit and U.S. packing costs. We calculated the cost of material and fabrication based on the methodology described in calculation of Cost of Production section, above. In accordance with section 773(e)(2)(A) of the Act, we based SG&A expenses and profit on the amounts incurred by Sidmar in connection with the production and sale of the foreign like product in the comparison market. We used U.S. packing costs as described in the Constructed Export Price section above.

For price-to-CV comparisons, we made adjustments to CV in accordance with section 773(a)(8) of the Act and 19 CFR 351.410. Where we compared CV to CEP, we deducted from CV the weighted-average home market direct selling expenses and added U.S. selling expenses. Where appropriate we applied the CEP offset for price-to-CV comparisons, see the Level of Trade section below.

F. Level of Trade

In accordance with section 773(a)(1)(B) of the Act, to the extent practicable, we determine NV based on sales in the comparison market at the same level of trade (“LOT”) as the CEP transaction. The NV LOT is that of the starting-price sales in the comparison market or, when NV is based on CV, that of the sales from which we derive SG&A expenses and profit. With respect to U.S. price and CEP transactions, the LOT is the level of the constructed sale from the exporter to the importer.

To determine whether NV sales are at a different LOT than CEP, we examine stages in the marketing process and selling functions along the chain of distribution between the producer and the unaffiliated customer. If the comparison-market sales are at a different LOT and the difference affects price comparability, as manifested in a pattern of consistent price differences between the sales on which NV is based and comparison-market sales at the LOT of the export transaction, we make a LOT adjustment under section 773(a)(7)(A) of the Act. Finally, for CEP sales, if the NV level is more remote from the factory than the CEP level, and there is no basis for determining whether the difference in the levels between NV and CEP affects price comparability, we adjust NV under section 773(a)(7)(B) of the Act (the CEP offset provision). See Notice of Final Determination of Sales at Less Than Fair Value: Certain Cut-to-Length Carbon Steel Plate from South Africa, 62 FR at 61731 (November 19, 1997).

Sidmar reported two customer categories (i.e., distributors and original equipment manufacturers) and five channels of distribution in the home market: (1) Sales made by Sidmar, through its affiliated sales agent Sidstahl Belgium, N.V. (“Sidstahl”), directly to unaffiliated distributors or end users (Channel 1); (2) sales made by Sidmar's affiliated producer Europese Staal Prefabricate, N.V. (“ESP”) directly to its affiliated and unaffiliated distributors and unaffiliated end-users (Channel 2); (3) sales made by Sidmar, through its affiliated sales agent Sidstahl, as consignment sales, to unaffiliated end-users (Channel 3); (4) sales made by Sidmar to unaffiliated and affiliated end-users (Channel 4); (5) and sales made by Sidmar's affiliated producer ESP, as consignment sales, to unaffiliated end-users (Channel 5).

We determined that Sidmar sold merchandise at one LOT in the home market during the POI. The Department found minimal distinctions in the selling activities and associated expenses between Channels 1 through 5. Based on these differences, we concluded that one LOT existed in the home market. Because the large number of channels of distribution and selling expenses involved in this analysis presents difficulty in providing an adequate summary in this notice, please see the Sales Calculation Memorandum for a detailed explanation of this issue.

Sidmar reported two customer categories (i.e., original equipment manufacturers and service centers/distributors) and two channels of distribution in the United States: (1) CEP sales made by Sidmar, through its affiliated U.S. importer TANY, to unaffiliated service centers (Channel 6), and (2) CEP sales made by Sidmar, through its affiliated U.S. importer and further processor, J&F, to unaffiliated end users (Channel 7). We examined the selling functions performed by Sidmar on behalf of J&F and TANY and found only one level of trade.

In order to determine whether separate LOTs actually existed between the U.S. and home market, we reviewed the selling activities associated with each channel of distribution. We determined that fewer and different selling functions were performed for Sidmar's CEP sales than for sales in the home market and these differences are substantial. We therefore determined that Sidmar's CEP sales and home market sales were made at different marketing stages and thus at different LOTs. Accordingly, we examined whether a LOT adjustment was appropriate. The Department makes this adjustment when it is demonstrated that a difference in LOTs affects price comparability. See section 773(a)(1) of the Act; 19 CFR 351.412(b). However, where the available data does not provide an appropriate basis upon which to determine a LOT adjustment, and where the NV is established at a LOT that is at a more advanced stage of distribution than the LOT of the CEP transactions, we adjust NV under section 773(a)(7)(B) of the Act (the CEP offset provision). Because the LOT of the U.S. sales is different than the home market LOT and there is no home market LOT comparable to that of the CEP sales, there is no reliable basis for quantifying a LOT adjustment in accordance with section 773(a)(7)(A) of the Act. Further, we found that the home market sales were at a more advanced stage of distribution compared to sales to the U.S. LOT. Therefore, a CEP offset was applied to NV for the NV-CEP comparisons. Because the large number of channels of distribution and selling expenses involved in this analysis presents difficulty in providing an adequate summary in this notice, see the Sales Calculation Memorandum for a detailed explanation of our analysis.

Currency Conversion

We made currency conversions into U.S. dollars in accordance with section 773A(a) of the Act based on the exchange rates in effect on the dates of the U.S. sales as certified by the Federal Reserve Bank.

Verification

As provided in section 782(i) of the Act, we will verify all information relied upon in making our final determination.

Suspension of Liquidation

In accordance with section 733(d)(2) of the Act, we are directing the U.S. Customs Service to suspend liquidation of all imports of subject merchandise that are entered, or withdrawn from warehouse, for consumption on or after the date of publication of this notice in the Federal Register. We will instruct the Customs Service to require a cash deposit or the posting of a bond equal to the weighted-average amount by which the NV exceeds the export price or constructed export price, as indicated in the chart below. These suspension-of-liquidation instructions will remain in effect until further notice. The weighted-average dumping margin is as follows:

Exporter/Manufacturer | Weighted- average margin percentage
Sidmar, N.V. | 11.66
All Others | 11.66

ITC Notification

In accordance with section 733(f) of the Act, we have notified the ITC of our determination. If our final determination is affirmative, the ITC will determine before the later of 120 days after the date of this preliminary determination or 45 days after our final determination whether these imports are materially injuring, or threaten material injury to, the U.S. industry.

Disclosure

We will disclose the calculations used in our analysis to parties in this proceeding in accordance with 19 CFR 351.224(b).

Public Comment

Case briefs for this investigation must be submitted to the Department no later than seven days after the date of the final verification report issued in this proceeding. Rebuttal briefs must be filed five days from the deadline date for case briefs. A list of authorities used, a table of contents, and an executive summary of issues should accompany any briefs submitted to the Department. Executive summaries should be limited to five pages total, including footnotes. Public versions of all comments and rebuttals should be provided to the Department and made available on diskette. Section 774 of the Act provides that the Department will hold a public hearing to afford interested parties an opportunity to comment on arguments raised in case or rebuttal briefs, provided that such a hearing is requested by an interested party. If a request for a hearing is made in this investigation, the hearing will tentatively be held two days after the rebuttal brief deadline date at the U.S. Department of Commerce, 14th Street and Constitution Avenue, NW., Washington, DC 20230. Parties should confirm by telephone the time, date, and place of the hearing 48 hours before the scheduled time.

Interested parties who wish to request a hearing, or to participate if one is requested, must submit a written request to the Assistant Secretary for Import Administration, U.S. Department of Commerce, Room 1870, within 30 days of the publication of this notice. Requests should contain: (1) The party's name, address, and telephone number; (2) the number of participants; and (3) a list of the issues to be discussed. Oral presentations will be limited to issues raised in the briefs.

We will make our final determination no later than 135 days after the publication of this notice in the Federal Register.

This determination is issued and published pursuant to sections 733(f) and 777(i) of the Act.

Dated: April 26, 2002.
Faryar Shirzad,
Assistant Secretary for Import Administration.

[FR Doc. 02-11184 Filed 5-8-02; 8:45 am]

BILLING CODE 3510-DS-P